ENVIRONMENTAL PROTECTION AGENCY

40 CFR Part 300

[FRL-6572-4]

National Oil and Hazardous Substances Pollution Contingency Plan; National Priorities List

AGENCY: Environmental Protection Agency.

ACTION: Direct final deletion of the Upper Deerfield Township Sanitary Landfill Superfund Site from the National Priorities List.

SUMMARY: The Environmental Protection Agency (EPA), Region II Office announces the deletion of the Upper Deerfield Township Sanitary Landfill Superfund Site (Site) from the National Priorities List (NPL) and requests public comment on this action. The NPL constitutes appendix B of 40 CFR part 300, which is the National Oil and Hazardous Substances Pollution Contingency Plan (NCP), which EPA promulgated pursuant to section 105 of the Comprehensive Environmental Response, Compensation and Liability Act of 1980 (CERCLA), as amended. EPA and the New Jersey Department of Environmental Protection (NJDEP) have determined that all appropriate response actions under CERCLA have been implemented at the Site to protect human health and the environment.

DATES: This “direct final” action will be effective on June 9, 2000 unless EPA receives significant adverse or critical comments by May 10, 2000. If written significant comments are received, EPA will publish a timely withdrawal of the rule in the Federal Register, informing the public that the rule will not take effect.

ADDRESSES: Comments may be mailed to: Diego M. Garcia, Remedial Project Manager, Emergency and Remedial Response Division, U.S. Environmental Protection Agency, Region II, 290 Broadway, 19th Floor New York, New York 10007-1866.

Comprehensive information on this Site is available for viewing at the Upper Deerfield Township Sanitary Landfill Superfund Site information repositories at the following locations:

Upper Deerfield Municipal Building, Administrative Office, Building 1325, State Highway 77, Seabrook, New Jersey 08302, (609) 329-4000

and

U.S. EPA Records Center, 290 Broadway, Room 1828, New York, New York 10007-1866, Hours: 9:00 AM to 5:00 PM, Monday through Friday. Contact: Superfund Records Center (212) 637-4308.

FOR FURTHER INFORMATION CONTACT: Diego M. Garcia, Remedial Project Manager, U.S. Environmental Protection Agency, Region II, 290 Broadway, 19th Floor, New York, New York 10007-1866, (212) 637-4947, by FAX at (212) 637-4393 or via e-mail at garcia.diego@epamail.epa.gov.

SUPPLEMENTARY INFORMATION:

Table of Contents

I. Introduction

II. NPL Deletion Criteria

III. Deletion Procedures

IV. Basis for Intended Site Deletion

V. Action

I. Introduction

The United States Environmental Protection Agency (EPA) Region II announces the deletion of the Upper Deerfield Township Sanitary Landfill Superfund Site (the “Site”), which is located in Upper Deerfield Township, Cumberland County, New Jersey, from the National Priorities List (NPL). The NPL constitutes Appendix B of the National Oil and Hazardous Substances Pollution Contingency Plan (NCP), 40 CFR part 300. EPA identifies sites that appear to present a significant risk to public health or the environment and maintains the NPL as the list of these sites. Pursuant to 40 CFR 300.425(e)(3) of the NCP, any site or portions of a site deleted from the NPL remains eligible for Fund-financed remedial actions if future conditions at the site warrant such action.

EPA will accept comments concerning this document until May 10, 2000.

Section II of this document explains the criteria for deleting sites from the NPL. Section III discusses the procedures that EPA is using for this action. Section IV discusses the Upper Deerfield Township Sanitary Landfill Superfund Site and explains how the Site meets the deletion criteria.

II. NPL Deletion Criteria

As described in § 300.425(e) of the NCP, sites may be deleted from the NPL where no further response is appropriate. In making a determination to delete a site from the NPL, EPA, in consultation with NJDEP, shall consider whether any of the following have been met:

(i) Responsible parties or other persons have implemented all appropriate response actions required; or,

(ii) All appropriate Fund-financed response under CERCLA has been implemented, and no further response action by responsible parties is appropriate; or

(iii) The remedial investigation has shown that the release poses no significant threat to public health or the environment and, therefore, taking of remedial measures is not appropriate.

Deletion of a site from the NPL does not preclude eligibility for subsequent Fund-financed actions at the Site if future Site conditions warrant such actions. Section 300.425(e)(3) of the NCP provides that Fund-financed actions may be taken at sites that have been deleted from the NPL. Further, deletion of a site from the NPL does not affect the liability of responsible parties or impede Agency efforts to recover costs associated with response efforts.

III. Deletion Procedures

The following procedures are being used for the intended deletion of this Site: (1) EPA Region II issued a Record of Decision (ROD) on September 30, 1991, which found that the release poses no significant threat to public health or the environment and therefore, taking remedial measures is not appropriate; (2) EPA Region II issued a Final Close-Out Report dated September 27, 1993; (3) NJDEP has concurred with the deletion decision in a letter dated March 4, 1998; (4) a five-year review was completed in September 1999, and determined that the remedy continues to be protective of public health and the environment; (5) a notice has been published in the local newspaper and has been distributed to appropriate federal, state and local officials and other interested parties announcing a 30-day dissenting public comment period on EPA's Direct Final Action to Delete; and (6) EPA Region II recommends deletion and has made all relevant documents available for public review in the regional office and local Site information repositories.

EPA is requesting public comments on the Direct Final Action to Delete. The NCP provides that EPA shall not delete a site from the NPL until the Public has been afforded an opportunity to comment on the proposed deletion.

Deletion of sites from the NPL does not itself create, alter, or revoke any individual's rights or obligations. The NPL is designed primarily for informational purposes and to assist Agency management of Superfund sites.

EPA Region II will accept and evaluate public comments before making a final decision to delete. If appropriate, the Agency will prepare a Responsiveness Summary to address any significant public comments received.

If EPA does not receive significant adverse or critical comments and/or any significant new data submitted during the comment period, the Site will be deleted from the NPL effective June 9, 2000.

IV. Basis for Intended Site Deletion

The Upper Deerfield Sanitary Landfill Superfund Site is an inactive, 14-acre landfill located on a 22.72-acre tract of land in the rural farming community of Upper Deerfield Township, Cumberland County, New Jersey. The Site is located approximately two and one-half miles east-southeast of Seabrook, New Jersey and lies between Woodruff Husted Station Road (County Route 687) to the east and Centerton Road (County Route 553) to the west.

The 14-acre site was operated as a municipal landfill licensed to accept household waste until it closed in 1983. In response to complaints about water quality from residents using private ground water wells, ground water investigations were conducted in 1980. Volatile organic compounds (VOCs) and mercury were found in area wells. In 1983, NJDEP and the County advised residents to discontinue using their wells, and the Township began supplying the affected residents with bottled water. The Site was included on the NPL on September 1, 1983.

In 1986, utilizing funds provided by the State of New Jersey, the Township installed a public water supply well and distribution system to provide potable water to residents in the area. EPA conducted a remedial investigation at the Site from September 1987 through September 1990.

The results showed that the ground water and soil contamination associated with the Site no longer posed a health threat under current or likely future land use conditions. On September 30, 1991, EPA issued a ROD which called for no further action with a program to monitor the air and ground water.

In September 1994, EPA and Upper Deerfield Township signed an Administrative Order on Consent (ACO) which requires the Township to monitor the ground water for 30 years pursuant to the 1991 ROD. The ground water monitoring program began in December 1995. To date, ground water samples taken at the landfill, have not shown elevated levels of contaminants of concern. Air samples at the landfill and surrounding areas have not detected any airborne contaminants. Since airborne contaminants were not detected, the air monitoring program has been discontinued.

A five-year review was completed in September 1999, and found the remedy continues to be protective of public health and the environment. In accordance with § 300.430(f)(4)(ii) of the NCP, this site is subject to a review of the remedies selected under CERCLA every five years. The next five-year review will be conducted on or before September 2004.

All the completion requirements for this Site have been met as described in the Final Close-Out Report dated September 23, 1993. EPA and NJDEP have found that the release poses no significant threat to public health and the environment and, therefore, taking remedial measures is not appropriate. Documents supporting this action are available in the deletion docket.

V. Action

EPA and the NJDEP have found that the release poses no significant threat to public health and the environment and, therefore, taking remedial measures is not appropriate. Therefore, EPA is deleting the Site from the NPL.

This action will be effective on June 9, 2000. However, if EPA receives significant adverse or critical comments by May 10, 2000, EPA will publish a document that withdraws this action.

List of Subjects in 40 CFR Part 300

Environmental protection, Chemicals, Hazardous substances, Hazardous waste, Intergovernmental relations, Penalties, Superfund, Water pollution control, Water supply.

Dated: March 15, 2000.
William J. Muszynki,
Acting Regional Administrator, Region 2.

Part 300, title 40 of chapter I of the Code of Federal Regulations is amended as follows:

PART 300—[AMENDED]

1. The authority citation for Part 300 continues to read as follows:

Authority: 33 U.S.C. 1321(c)(2); 42 U.S.C. 9601-9657; E.O. 12777, 56 FR 54757, 3 CFR, 1991 Comp.; p. 351; E.O. 12580, 52 FR 2923, 3 CFR, 1987 Comp.; p. 193.

Appendix B—[Amended]

2. Table 1 of Appendix B to part 300 is amended by removing the site for Upper Deerfield Township Sanit. Landfill, Upper Deerfield Township, New Jersey.

[FR Doc. 00-8524 Filed 4-7-00; 8:45 am]

BILLING CODE 6560-50-P